DEPARTMENT OF COMMERCE

National Oceanic and Atmospheric Administration

RIN: 0648-XP77

Pacific Fishery Management Council; Public Meeting

AGENCY: National Marine Fisheries Service (NMFS), National Oceanic and Atmospheric Administration (NOAA), Commerce.

ACTION: Notice of public meeting.

SUMMARY: The Pacific Fishery Management Council's (Council) Salmon Technical Team (STT) will hold a meeting to initiate planning and make assignments for developing an overfishing review for Queets River and Strait of Juan de Fuca natural coho. STT meeting to be held June 30, 2009 to plan development of an assessment of the causes and implications of Queets River and Strait of Juan de Fuca natural coho stocks failing to meet their conservation objective for three consecutive years. This meeting of the STT is open to the public.

DATES: The meeting will be held Tuesday, June 30, 2009, from 8:30 a.m. to 4 p.m.

ADDRESSES: The meeting will be held at the Washington Department of Fish and Wildlife office, located in the Natural Resources Building at 1111 Washington St. S.E., Room 682, Olympia, WA 98501-1091.

Council address: Pacific Fishery Management Council, 7700 NE Ambassador Place, Suite 101, Portland, OR 97220-1384.

FOR FURTHER INFORMATION CONTACT: Mr. Chuck Tracy, Salmon Management Staff Officer, Pacific Fishery Management Council; telephone: (503) 820-2280.

SUPPLEMENTARY INFORMATION: The purpose of the meeting is to develop a set of topics and assignments to assess the spawning escapement shortfalls for natural coho stocks from the Queets River in 2006-08, and from the Strait of Juan de Fuca in 2005-08. The assessment will focus on the role of fishing on the spawning escapement shortfall and on the implication to long-term productivity of the stocks of not meeting their conservation objectives.

When a salmon stock managed by the Council fails to meet its conservation objective for three consecutive years, an overfishing concern is triggered according to the terms of the Pacific Coast Salmon Plan (Salmon Plan). The Salmon Plan requires the Council to direct its STT to undertake a review of the status of the stock in question and determine if excessive harvest was responsible for the shortfall, if other factors were involved, and the significance of the stock depression with regard to achieving maximum sustainable yield.

Although non-emergency issues not contained in the meeting agenda may come before the STT for discussion, those issues may not be the subject of formal action during these meetings. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: June 9, 2009.
Tracey L. Thompson,
Acting Director, Office of Sustainable Fisheries, National Marine Fisheries Service.

[FR Doc. E9-13838 Filed 6-11-09; 8:45 am]

BILLING CODE 3510-22-S